DEPARTMENT OF DEFENSE

Office of the Secretary

Proposed Collection; Comment Request

AGENCY: Office of the Assistant Secretary of Defense (Health Affairs)/TRICARE Management Activity, DoD.

ACTION: Notice of new survey project.

SUMMARY: This notice is to advise interested parties of a Military Health System (MHS) new survey project entitled, TRICARE Employee Survey. In accordance with Section 3506(c)(2)(A) of the Paperwork Reduction Act of 1995, the Office of the Assistant Secretary of Defense for Health Affairs announces a proposed new public information collection and seeks public comment on the provisions thereof. Comments are invited on: (a) Whether the proposed new collection of information is necessary for the proper performance of the functions of the agency, including whether the information shall have practical utility; (b) the accuracy of the agency's estimate of the burden of the information collection; (c) ways to enhance the quality, utility, and clarity of the information to be collected; and (d) ways to minimize the burden of the information collection on respondents, including through the use of automated collection techniques or other forms of information technology.

DATES: Consideration will be given to all comments received by February 25, 2003.

ADDRESSES: Written comments and recommendations on the information collection should be sent to LTC (P) Merrily MeGowan, Ph.D., M.S., U.S.A.; TRICARE Management Activity; HPA&E; 5111 Leesburg Pike, Suite 810 Falls Church, VA 22041.

FOR FURTHER INFORMATION CONTACT: To request more information on this proposed information collection, please write to the above address.

Title; Associated Form; and OMB Number: TRICARE Employee Survey (TRES)

Needs and Uses: the objective of this work is to provide the Department of Defense leadership with feedback from civilian and Military Healthcare System employees who work at Military Treatment Facilities (MTF) CONUS-wide. A supportive internal environment enhances employee performance, motivation, and commitment, which in turn enhance the quality of delivered healthcare. Understanding the level of employee commitment and employees' attitudes toward the things that drive that commitment will help identify organizational factors needing improvement. The goal of this work is to gain insight from MHS employees working within the direct care system about their attitudes, experiences and opinions of workplace structures and procedures. All employees of CONUS MTFs will be eligible to participate. By reporting on their experience with, and perceptions of, their organization and immediate work environment, they can identify factors that enable or hinder them from providing high quality care. The TRES intended to provide DoD with data that contributes to the delivery of high quality healthcare. The perspective of employees has not been collected systematically despite their important role in delivering care within the constraints of limited resources and complicated guidelines. The first goal of this work is to gain insight of employees regarding the challenges associated with treating patients under TRICARE. A survey instrument is needed that will capture information regarding employee opinions of how well TRICARE supports them to provide patients with needed care. It will identify how administrative policies and practices of TRICARE health plans effect healthcare delivery. A second goal of this work is to collect information that indicates how the attitudes and opinions of employees differ by specialty, region, and degree of participation with TRICARE. The survey data shall provide information needed to better plan, deliver, and evaluate health care services provided in the military health system (MHS).

Affected Public: Individual households (TRICARE Employees CONUS-wide).

Annual Burden Hours: 333 hours.

Number of Respondents: 1,000.

Response Per Respondent: 1.

Average Burden Per Response: .333 hrs.

Frequency: Once.

SUPPLEMENTARY INFORMATION: This request encompasses all activities required to conduct and develop a report of findings of a confidential survey of TRICARE employees CONUS-wide to assess their attitudes and opinions regarding their ability to provide high quality care.

Dated: November 16, 2002.
Patricia L. Toppings,
Alternate OSD Federal Register Liaison Officer Department of Defense.

[FR Doc. 02-32668 Filed 12-26-02; 8:45 am]

BILLING CODE 5001-08-M